DEPARTMENT OF HOMELAND SECURITY

Bureau of Customs and Border Protection

19 CFR Part 101

[CBP Dec. 09-45]

Technical Amendments to List of CBP Preclearance Offices in Foreign Countries: Addition of Halifax, Canada and Shannon, Ireland

AGENCY: Customs and Border Protection, DHS.

ACTION: Final rule; technical amendments.

SUMMARY: This document amends title 19 of the Code of Federal Regulations (CFR) to reflect that U.S. Customs and Border Protection (CBP) has added preclearance stations in Halifax, Canada and Shannon, Ireland. CBP officers at preclearance stations conduct inspections and examinations to ensure compliance with U.S. customs, immigration, and agriculture laws, as well as other laws enforced by CBP at the U.S. border. Such inspections and examinations prior to arrival in the United States generally enable passengers to exit the domestic terminal or connect directly to a U.S. domestic flight without undergoing further CBP processing.

DATES: Effective Date: December 8, 2009.

FOR FURTHER INFORMATION CONTACT: Kathleen Conway, Office of Field Operations, Preclearance Operations, (202) 344-1759.

SUPPLEMENTARY INFORMATION:

Background

CBP preclearance operations have been in existence since 1952. Preclearance facilities are established through the cooperative efforts of CBP, foreign government representatives, and the local airport authorities and are evidenced with signed preclearance agreements. Each facility is staffed with CBP officers responsible for conducting inspections and examinations in connection with preclearing passengers bound for the United States. Generally, passengers who are inspected at a preclearance facility are permitted to arrive at a U.S. domestic facility and exit the U.S. domestic terminal upon arrival or connect directly to a U.S. domestic flight without further CBP processing. Preclearance facilities primarily serve to facilitate low risk passengers, relieve passenger congestion at Federal inspection facilities in the United States, and enhance security in the air environment through the screening and inspection of passengers prior to their arrival in the United States. In Fiscal Year 2008, over 14.9 million passengers were processed at preclearance locations. This figure represents more than 15 percent of all commercial air passengers cleared by CBP in 2008.

The Agreement on Air Transport Preclearance Between the Government of the United States of America and the Government of Canada was signed on January 18, 2001. Preclearance operations began in Halifax, Canada on October 4, 2006. The Halifax preclearance station is open for use by commercial flights.

The Agreement Between the Government of the United States of America and the Government of Ireland on Air Transport Preclearance was signed on November 17, 2008. Preclearance operations began in Shannon, Ireland on August 5, 2009. The Shannon preclearance station is open for use by commercial flights.

Section 101.5 of the CBP regulations (19 CFR 101.5) sets forth a list of CBP preclearance offices in foreign countries. This document amends this section to add Halifax, Canada and Shannon, Ireland to the list of preclearance offices, and to reflect the nomenclature changes made necessary by the transfer of the legacy U.S. Customs Service of the Department of the Treasury to the Department of Homeland Security (DHS) and DHS' subsequent renaming of the agency as U.S. Customs and Border Protection (CBP) on March 31, 2007 (see 72 FR 20131, dated April 23, 2007).

Inapplicability of Public Notice and Delayed Effective Date Requirements

This amendment reflects the addition of two new CBP preclearance offices that were established through signed agreements between the United States and the respective host nation. Accordingly, pursuant to 5 U.S.C. 553(b)(3)(B), notice and public procedure are unnecessary. For the same reason, pursuant to 5 U.S.C. 553(d)(3), a delayed effective date is not required.

The Regulatory Flexibility Act and Executive Order 12866

Because no notice of proposed rulemaking is required, the provisions of the Regulatory Flexibility Act (5 U.S.C. 601 et seq.) do not apply. This amendment does not meet the criteria for a “significant regulatory action” as specified in Executive Order 12866.

Signing Authority

This document is being issued in accordance with 19 CFR 0.2(a).

List of Subjects in 19 CFR Part 101

Customs duties and inspection, Customs ports of entry, Foreign trade statistics, Imports, Organization and functions (Government agencies), Shipments, Vessels.

Amendments to Regulations

For the reasons set forth above, Part 101 of the Code of Federal Regulations (19 CFR part 101) is amended as set forth below.

PART 101—GENERAL PROVISIONS

1. The general authority citation for part 101 and the specific authority citation for section 101.5 continue to read as follows:

Authority: 5 U.S.C. 301; 19 U.S.C. 2, 66, 1202 (General Note 3(i), Harmonized Tariff Schedule of the United States), 1623, 1624, 1646a.

* * * * *

Section 101.5 also issued under 19 U.S.C. 1629.

* * * * *

2. Revise § 101.5 to read as follows:

§ 101.5 CBP preclearance offices in foreign countries.

Listed below are the preclearance offices in foreign countries where CBP officers are located. A Director, Preclearance, located in the Office of Field Operations at CBP Headquarters, is the responsible CBP officer exercising supervisory control over all preclearance offices.

Country | CBP office
Aruba | Orangestad.
The Bahamas | Freeport.
| Nassau.
Bermuda | Kindley Field.
Canada | Calgary, Alberta.
| Edmonton, Alberta.
| Halifax, Nova Scotia.
| Montreal, Quebec.
| Ottawa, Ontario.
| Toronto, Ontario.
| Vancouver, British Columbia.
| Winnipeg, Manitoba.
Ireland | Shannon.

Dated: December 3, 2009.
Jayson P. Ahern,
Acting Commissioner, U.S. Customs and Border Protection.

[FR Doc. E9-29190 Filed 12-7-09; 8:45 am]

BILLING CODE 9111-14-P